FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Application Form for Membership on the Community Advisory Council (Application) (FR 1401; OMB 7100-0371).

DATES: Comments must be submitted on or before April 1, 2019.

ADDRESSES: You may submit comments, identified by FR 1401, by any of the following methods:

• Agency website: http://www.federalreserve.gov. Follow the instructions for submitting comments at http://www.federalreserve.gov/apps/foia/proposedregs.aspx.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available from the Board's website at http://www.federalreserve.gov/apps/foia/proposedregs.aspx as submitted, unless modified for technical reasons. Accordingly, your comments will not be edited to remove any identifying or contact information. Public comments may also be viewed electronically or in paper form in Room 3515, 1801 K Street NW (between 18th and 19th Streets NW), Washington, DC 20006 between 9:00 a.m. and 5:00 p.m. on weekdays. For security reasons, the Board requires that visitors make an appointment to inspect comments. You may do so by calling (202) 452-3684. Upon arrival, visitors will be required to present valid government-issued photo identification and to submit to security screening in order to inspect and photocopy comments. Additionally, commenters may send a copy of their comments to the OMB Desk Officer—Shagufta Ahmed—Office of Information and Regulatory Affairs, Office of Management and Budget, New Executive Office Building, Room 10235, 725 17th Street NW, Washington, DC 20503, or by fax to (202) 395-6974.

FOR FURTHER INFORMATION CONTACT: A copy of the PRA OMB submission, including the proposed reporting form and instructions, supporting statement, and other documentation will be placed into OMB's public docket files, if approved. These documents will also be made available on the Board's public website at http://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC, 20551.

SUPPLEMENTARY INFORMATION: On June 15, 1984, the Office of Management and Budget (OMB) delegated to the Board authority under the Paperwork Reduction Act (PRA) to approve and assign OMB control numbers to collection of information requests and requirements conducted or sponsored by the Board. In exercising this delegated authority, the Board is directed to take every reasonable step to solicit comment. In determining whether to approve a collection of information, the Board will consider all comments received from the public and other agencies.

Request for comment on information collection proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal under OMB delegated authority to extend for three years, without revision, the following information collection:

Report title: Application Form for Membership on the Community Advisory Council.

Agency form number: FR 1401.

OMB control number: 7100-037.

Frequency: Annually.

Respondents: Applicants who seek to be considered for Community Advisory Council membership.

Estimated number of respondents: 314.

Estimated average hours per response: 1.

Estimated annual burden hours: 314.

General description of report: The Application Form for Membership on the Community Advisory Council (Application) is used to obtain information about the experience and qualification of persons seeking to be considered for membership on the Board's Community Advisory Council (CAC).

Legal authorization and confidentiality: The Application is authorized pursuant to the Board's general authority to establish the CAC, which is derived from sections 2A and 10 of the Federal Reserve Act (FRA). Section 2A of the FRA requires the Board and the Federal Open Market Committee to “maintain long run growth of the monetary and credit aggregates commensurate with the economy's long run potential to increase production, so as to promote effectively the goals of maximum employment, stable prices, and moderate long-term interest rates” (12 U.S.C. 225a). Section 10 of the FRA authorizes the Board to “determine and prescribe the manner in which its obligations shall be incurred and its disbursements and expenses allowed and paid” (12 U.S.C. 244). Applicants are required to provide information collected as part of the Application to be considered for CAC membership.

Information provided on the Application will be kept confidential under exemption 6 of the Freedom of Information Act (FOIA) to the extent that the disclosure of information “would constitute a clearly unwarranted invasion of personal privacy” (see 5 U.S.C. 552(b)(6)). For example, the release of information such as an applicant's address, home telephone number, and personal email address would likely constitute a clearly unwarranted invasion of personal privacy and, therefore, be kept confidential under exemption 6 of the FOIA. However, the release of information such as the educational and professional qualifications of successful applicants would not likely constitute a clearly unwarranted invasion of personal privacy and may be disclosed under the FOIA. In addition, once a person becomes a member of the CAC, their name, and the name and location of the organization where they are employed, would generally be listed on the Board's public website.

Determinations regarding disclosure to third parties of any confidential portions of the information collection that are considered exempt under the FOIA would be made in accordance with the Privacy Act (see 5 U.S.C. 552a(b)). A hyperlink directing the applicant to the relevant Privacy Act statement is provided in the Federal Register notice and also when the applicant fills out the Application form on the Board's website. The Board may make disclosures in accordance with the Privacy Act's routine use disclosure provision, (see 5 U.S.C. 552a(a)(7) and (b)(3)), which permits the disclosure of a record for a purpose which is compatible with the purpose for which the record was collected. Such routine uses are listed in the Board's System of Records Notice that applies to this information collection, which can be found in BGFRS-39, FRB-General File of the Community Advisory Council, located here: https://www.federalreserve.gov/files/BGFRS-39-general-file-of-the-community-advisory-council.pdf.

Board of Governors of the Federal Reserve System, January 18, 2019.
Michele Taylor Fennell,
Assistant Secretary of the Board.

[FR Doc. 2019-00365 Filed 1-30-19; 8:45 am]

BILLING CODE 6210-01-P